SMALL BUSINESS ADMINISTRATION

National Women's Business Council; Notice of Public Meeting

AGENCY: Small Business Administration, National Women's Business Council (NWBC).

ACTION: Notice of open public meeting.

DATES: The public meeting will be held on Wednesday, September 13, 2023, from 1:30 p.m. to 3:30 p.m. EDT.

ADDRESSES: This meeting is in-person. For those attending in-person, the event location will be shared on the Eventbrite.

FOR FURTHER INFORMATION CONTACT: For more information, please visit the NWBC website at www.nwbc.gov, email info@nwbc.gov or call Jordan Chapman (NWBC Communications Specialist) at (202) 941-6001.

The meeting is open to the public; however, advance notice of attendance is requested. To RSVP, please visit the NWBC website at www.nwbc.gov. The “Public Meetings” section under “Events” will feature a link to register on Eventbrite.

SUPPLEMENTARY INFORMATION: Pursuant to section 10(a)(2) of the Federal Advisory Committee Act, NWBC announces its final public meeting of Fiscal Year 2023. The 1988 Women's Business Ownership Act established NWBC to serve as an independent source of advice and policy recommendations to the President, Congress, and the Administrator of the U.S. Small Business Administration (SBA) on issues of importance to women entrepreneurs. This meeting will allow the Council to recap its activity and engagement over the course of Fiscal Year 2023. Each of the Council's three subcommittees (Access to Capital & Opportunity, Women in STEM, and Inclusive Entrepreneurial Ecosystems) will present their policy recommendations to the full body for deliberation and vote. Guest remarks are also expected to be delivered.

Accommodation for ASL and translation services can be provided during the September Public Meeting if requested prior to August 30, 2023. The Eventbrite registration page will include an opportunity to request such, but individuals may also email info@nwbc.gov with subject line—“[Name/Organization] Accommodation for 09/13/23 Public Meeting”.

Dated: August 24, 2023.
Andrienne Johnson,
Committee Management Officer.

[FR Doc. 2023-18663 Filed 8-29-23; 8:45 am]

BILLING CODE P